DEPARTMENT OF AGRICULTURE

Forest Service

Klamath National Forest, California, Horse Heli Project

AGENCY: Forest Service, USDA.

ACTION: Notice of intent to prepare an environmental impact statement.

SUMMARY: The Forest Service will prepare an environmental impact statement on a proposal to treat vegetation using a variety of silvicultural methods on approximately 1,680 acres of National Forest System lands in the Horse Creek watershed near the towns of Horse Creek and Klamath River, in Siskiyou County, California. Approximately 1.9 miles of classified and 1.6 miles of unclassified roads are proposed for decommissioning. Approximately 1.8 miles of unclassified roads would be added to the transportation system. Activities would likely take place within five years of the decision. An amendment to the Klamath National Forest Land and Resource Management Plan to modify an existing standard and guideline is also part of the proposal.

DATES: Comments concerning the scope of the analysis should be received within 14 days of the publication of this notice in the Federal Register. The draft environmental impact statement is expected by May 2003, and the final environmental impact statement is expected by September 2003.

ADDRESSES: Send written comments to Ray Haupt, District Ranger, Scott River Ranger District, 11263 N. Highway 3, Fort Jones, CA 96032.

FOR FURTHER INFORMATION CONTACT: Bill Bailey, Timber Management Officer, at the above address or call (530) 468-5351.

SUPPLEMENTARY INFORMATION:

Purpose and Need for Action

The purpose of this proposed action is to protect the long-term hydrologic and aquatic health within the Horse Creek watershed and four 7th field subwatersheds (Horse/Middle, Buckhorn, Kohl, and Doggett Creeks). The Horse/Middle, Buckhorn, and Doggett Creek subwatersheds are considered impaired, as described in the Horse Creek Ecosystem Analysis (also known as a Watershed Analysis, November 2002). During the Horse Creek Ecosystem Analysis process, existing conditions were compared to the desired conditions in the Klamath National Forest Land and Resource Management Plan, and a need to reduce both stocking and fuel levels was identified. This would also reduce the risk of catastrophic fire and promote forest stand health and longevity. The need was further documented with a fuels inventory completed in the summer of 2002 that showed abnormally high fuel levels of 33 tons per acre in the project area.

The higher elevations of the project area are comprised of stands of Shasta red fir. These stands are heavily infested with dwarf mistletoe and Cytospora (a common and damaging canker in true fir) due to years of fire suppression, drought, and stress from overcrowded stands. Mortality and disease are highly evident. There are many visible dead trees, standing and on the ground, as well as infected trees with dead needles in large portions of the crowns. The lower elevations of the project area are comprised of mixed conifer timber stands. These stands vary in average tree size and stocking levels. Although they are not heavily infested with disease, they are at abnormal risk to wildfire. Fire risk modeling using existing fuel levels indicates that stands within the project area would burn with severe intensity in the event of a wildfire.

Proposed Action

The Scott River District of the Klamath National Forest proposes to treat vegetation on approximately 1,680 acres in the Horse Creek watershed using the following silvicultural prescriptions (acreages are approximate): 699 acres of thinning, 344 acres of group selection, 553 acres of sanitation/salvage, 72 acres of green tree retention, and 12 acres of overstory removal. Tractor, cable, and helicopter logging methods would be used, with helicopter as the predominant method.

Project-generated fuels would be treated through a combination of mastication (reducing vegetative matter to small pieces using machinery) and hand piling/burning. Mastication would occur on areas that are less than 45% slope gradient. Hand piling would occur on steeper slopes and any areas with machine entry exclusions.

All Shasta red fir, white fir, and hemlock stumps would be hand treated with the fungicide Sporax® to reduce the spread of fungus Heterobasidion annosum (Fomes annosus).

Openings created from group selection and green tree retention prescriptions would be planted and baiting for pocket gophers. Baiting application method would consist of probing and/or spooning method of below-ground application of strychnine.

There would be no new system road construction. Approximately 1.9 miles on seven classified road segments are proposed for decommissioning in this project design. Approximately 1.6 miles of eight unclassified roads and road segments are proposed for decommissioning. Approximately 1.8 miles of two existing unclassified roads are proposed for adding to the transportation system.

The areas proposed for treatment are within the General Forest, Retention, Partial Retention, Special Interest Area (Condrey Mountain Blueschist), and Riparian Reserve land allocations in the Klamath National Forest Land and Resource Management Plan. The legal description for the proposal is Township 47 North, Range 9 West, Sections 19, 20, and 30; Township 47 North, Range 10 West, Sections 11-15, 22, 24, and 26; Mount Diablo Meridian. All activities would likely be completed within five years of the decision being made.

Forestwide Standard and Guideline 11-4 of the Klamath National Forest Land and Resource Management Plan would be modified to state: “Perpetuate the sustainable, aesthetically valued landscape character when implementing Forest programs and activities. Achieve Forest Visual Quality Objectives (VQOs) to help conserve that character's existing and potential valued attributes. If the character is seriously threatened due to current ecosystem conditions, individual corrective alterations may be permitted, even if inconsistent with the Forest VQO. When undertaking such corrective actions, the following provisions apply:

(a) Alterations must remain consistent with the Forest VQO in the cumulative sense, thereby meeting the VQO within the affected area's immediate viewshed and/or its linear viewing corridor;

(b) Public scenery interests of the affected area must be fully considered; and

(c) Alterations in excess of the Forest VQO would persist no longer than 10 years after project completion.”

Nature of Decision To Be Made

The Forest Service must decide whether it will implement this project, including a project-specific amendment to the Klamath National Forest Land and Resource Management Plan; implement an alternative that meets the purpose and need; or not implement any project at this time.

Responsible Official

Margaret Boland, Forest Supervisor, USDA Forest Service, 1312 Fairlane Road, Yreka, California 96097 is the Responsible Official.

Scoping Process

In October 2001, this project was included in the Klamath National Forest's Fall 2001 Schedule of Proposed Actions, which was posted on the Klamath National Forest's internet website and mailed to interested parties. In January 2003, a scoping letter was sent to potentially affected individuals and anyone who expressed interest in the proposal. This Notice of Intent invites additional public comment on this proposal and initiates the preparation of the environmental impact statement. Due to the extensive scoping effects already conducted, no scoping meeting is planned. The public is encouraged to take part in the planning process and to visit with Forest Service officials at any time during the analysis and prior to the decision.

While public participation in this analysis is welcome at any time, comments received within 14 days of the publication of this notice will be especially useful in the preparation of the draft environmental impact statement. The scoping process will include identifying potential issues, significant issues to be analyzed in depth, alternatives to the proposed action, and potential environmental effects of the proposal and alternatives.

Comment Requested

This notice of intent initiates the scoping process, which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: April 4, 2002.
Margaret J. Boland,
Forest Supervisor, Klamath National Forest.

[FR Doc. 03-8755 Filed 4-9-03; 8:45 am]

BILLING CODE 3410-11-P